DEPARTMENT OF EDUCATION

Notice of Submission for OMB Review; Office of the Secretary; Race to the Top Annual Performance Report

SUMMARY: The American Recovery and Reinvestment Act provides $4.3 billion for the Race to the Top Fund (referred to in the statute as the State Incentive Grant Fund). This is a competitive grant program to encourage and reward States that are creating the conditions for education innovation and reform; achieving significant improvement in student outcomes, including making substantial gains in student achievement, closing achievement gaps, improving high school graduation rates, and ensuring student preparation for success in college and careers; and implementing ambitious plans in four core education reform areas: (a) Adopting internationally-benchmarked standards and assessments that prepare students for success in college and in the workplace; (b) building data systems that measure student success and inform teachers and principals in how they can improve their practices; (c) increasing teacher effectiveness and achieving equity in teacher distribution; and (d) turning around our lowest-achieving schools.

DATES: Interested persons are invited to submit comments on or before August 6, 2012.

ADDRESSES: Written comments regarding burden and/or the collection activity requirements should be electronically mailed to ICDocketMgr@ed.gov or mailed to U.S. Department of Education, 400 Maryland Avenue SW., LBJ, Washington, DC 20202-4537. Copies of the proposed information collection request may be accessed from http://edicsweb.ed.gov, by selecting the “Browse Pending Collections” link and by clicking on link number 04845. When you access the information collection, click on “Download Attachments” to view. Written requests for information should be addressed to U.S. Department of Education, 400 Maryland Avenue SW., LBJ, Washington, DC 20202-4537. Requests may also be electronically mailed to ICDocketMgr@ed.gov or faxed to 202-401-0920. Please specify the complete title of the information collection and OMB Control Number when making your request.

Individuals who use a telecommunications device for the deaf (TDD) may call the Federal Information Relay Service (FIRS) at 1-800-877-8339.

SUPPLEMENTARY INFORMATION: Section 3506 of the Paperwork Reduction Act of 1995 (44 U.S.C. Chapter 35) requires that Federal agencies provide interested parties an early opportunity to comment on information collection requests. The Director, Information Collection Clearance Division, Privacy, Information and Records Management Services, Office of Management, publishes this notice containing proposed information collection requests at the beginning of the Departmental review of the information collection. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Race to the Top Annual Performance Report.

OMB Control Number: 1894-0012.

Type of Review: Reinstatement.

Total Estimated Number of Annual Responses: 19.

Total Estimated Number of Annual Burden Hours: 1,845.

Abstract: In order to fulfill our responsibilities for programmatic oversight and public reporting, the Department has developed a Race to the Top Annual Performance Report that is tied directly to the Race to the Top selection criteria and priorities previously established and published in the Federal Register. The report is grounded in the key performance targets included in grantees' approved Race to the Top plans. Grantees will be required to report on their progress in the four core education reform areas and in Science, Technology, Engineering, and Mathematics. This reporting includes narrative sections on progress and key performance indicators. As was the case in the completion of the Race to the Top applications, grantees will coordinate with local educational agencies to collect and report on school and district-level data elements.

In order to robustly fulfill our programmatic and fiscal oversight responsibilities, it is essential that we gather this data from Race to the Top grantees and subgrantees. In the first year of the grant, the annual performance report (APR) was collected through an emergency clearance approval. In order to allow for a comprehensive assessment of progress for the remaining grant period to both update the public and Congress about Race to the Top and pinpoint areas requiring technical assistance, we are requesting a three-year clearance with this form.

Additionally, through the Department of Defense and Full-Year Continuing Appropriations Act, 2011 (FY 2011 Appropriations Act), the Department made a total of $200 million in grants to seven additional States in Phase 3 to invest in a portion of their plans from the Phase 2 competition. The Department is requesting these States, who will complete a sub-set of the APR based on their approved plans, be included in the three-year clearance with this form.

Dated: July 2, 2012.
Darrin A. King,
Director, Information Collection Clearance Division, Privacy, Information and Records Management Services, Office of Management.

[FR Doc. 2012-16579 Filed 7-5-12; 8:45 am]

BILLING CODE 4000-01-P